DEPARTMENT OF AGRICULTURE

Grain Inspection, Packers and Stockyards Administration

Opportunity To Comment on the Applicants for Maryland, New Jersey, and New York

AGENCY: Grain Inspection, Packers and Stockyards Administration, USDA.

ACTION: Notice and request for comments.

SUMMARY: GIPSA requests comments on the applicants for designation to provide official services in Maryland, New Jersey, and New York.

• Maryland Department of Agriculture (Maryland) applied for Maryland.

• D. R. Schaal Agency, Inc. (Schaal) applied for New Jersey and New York.

• Kankakee Grain Inspection, Inc. (Kankakee) applied for Maryland, New Jersey, and New York.

• Mid-Iowa Grain Inspection, Inc. (Mid-Iowa) applied for Maryland, New Jersey and New York.

DATES: Comments must be postmarked or electronically dated on or before March 17, 2008.

ADDRESSES: We invite you to submit comments on these applicants. You may submit comments by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

• Federal eRulemaking Portal: Go to http://www.regulations.gov. Follow the online instructions for submitting comments and reading any comments posted online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This Action has been reviewed and determined not to be a rule or regulation as defined in Executive Order 12866 and Departmental Regulation 1512-1; therefore, the Executive Order and Departmental Regulation do not apply to this action.

In the December 5, 2007, Federal Register (72 FR 68555), GIPSA asked persons interested in providing official services in Maryland, New Jersey, and New York to submit an application for designation.

There were four applicants for the Maryland, New Jersey, and New York areas open for designation: Kankakee, Mid-Iowa, and Schaal, all currently designated official agencies, and Maryland, a state organization not currently designated. Kankakee and Mid-Iowa applied for Maryland, New Jersey, and New York. Schaal applied for New Jersey and New York. Maryland applied for Maryland.

GIPSA is publishing this notice to provide interested persons the opportunity to present comments concerning the applicants. Commenters are encouraged to submit reasons and pertinent data for support or objection to the designation of the applicants. All comments must be submitted to the Compliance Division at the above address or at http://www.regulations.gov. Comments and other available information will be considered in making a final decision. GIPSA will publish notice of the final decision in the Federal Register, and GIPSA will send the applicants written notification of the decision.

Authority: 7 U.S.C. 71-87k.

David R. Shipman,
Acting Administrator, Grain Inspection, Packers and Stockyards Administration.

[FR Doc. E8-2878 Filed 2-14-08; 8:45 am]

BILLING CODE 3410-KD-P